DEPARTMENT OF COMMERCE

National Oceanic Atmospheric Administration

Amendments to the Area To Be Avoided Off the Olympic Coast National Marine Sanctuary

AGENCY: National Oceanic Atmospheric Administration, Commerce

ACTION: Notice.

SUMMARY: The National Oceanic Atmospheric Administration (NOAA) is notifying the public of its intention to submit a proposal to International Maritime Organization (IMO) to extend the scope of the existing Area to be Avoided (ATBA) off the Washington Coast to include all vessels of 1,600 gross tons and above solely in transmit and to increase the size of the ATBA to reflect changes in the adjacent Strait of Juan de Fuca traffic separation scheme. NOAA is taking this action in response to information gathered during the development of the Port Access Routing Study for the Strait of San Juan de Fuca and Approaches (PARS) by the U.S. Coast Guard, Coast Guard docket USCG 1999-4974.

FOR FURTHER INFORMATION CONTACT: George Galasso, Assistant Manager, Olympic Coast National Marine Sanctuary, phone (360) 457-6622 ext. 26, email: george.galasso@noaa.gov.

SUPPLEMENTARY INFORMATION: An Area to be Avoided (ATBA) is defined by IMO as an area that all ships or certain classes of ships should avoid because navigation is particularly hazardous or it is exceptionally important to avoid casualties within the area. On December 7, 1994, the Maritime Safety Committee of the IMO adopted at ATBA proposed by the U.S. Government off the Olympic Coast National Marine Sanctuary. Since implementation in June 1995, the United States has been monitoring compliance through the use of Canadian Coast Guard radar data from the Tofino Marine Communications and Traffic System. Compliance with the ATBA is estimated to be between 90-95%, due to the excellent cooperation by the maritime community, vigorous education and outreach efforts by the Olympic Coast National Marine Sanctuary staff and the U.S. Coast Guard, and the sending of educational letters to those ships found to be in non-compliance.

The U.S. Coast Guard has recently completed a Port Access Route Study to critically review all aspects of vessel movements in the area. As presently configured, the inbound traffic lane originating from the southwest may bring traffic within close proximity to Duntze and Duncan Rocks and the rocky shoreline of Cape Flattery. The configuration also presents a potential for collisions between fishing and recreational vessels and transiting ships. It is customary practice for smaller, slower traffic to transit inbound and outbound south of the designated Traffic Separation Scheme (TSS) lanes when on coastwise voyages to and from the south. Thus, this traffic is navigating even closer to these hazards. The PARS Study recommends that the TSS at the entrance to the Strait of Juan de Fuca be extended approximately 10 miles further offshore, that the separation zone at the entrance to the Strait of Juan de Fuca be centered on the International Boundary, that a recommended route be established south of the TSS to accommodate existing traffic patterns, and to expand the ATBA boundaries to the north and west. The U.S. Coast Guard and NOAA have adopted these recommendations. The U.S. Coast Guard is developing proposals to the IMO to change the TSS and adopt recommended routes. NOAA has developed the proposal to amend the ATBA.

NOAA's proposal to amend the existing ATBA off the Olympic Coast National Marine Sanctuary has two elements. First, it proposes to increase the size of the ATBA to the north and west, to accommodate the Coast Guard's proposed amendment of the TSS. This increased size will enhance maritime safety because it provides for a greater distance and margin of safety from the navigational hazards of Duntze and Duncan Rocks and Tatoosh Island. Second, NOAA proposes to expand the class of ships to which the ATBA applies to include commercial ships of 1,600 gross tons and above. These ships carry substantial amounts of bunker fuel, which, if spilled, would have a devastating impact on the unique, valuable, and sensitive resources of Olympic Coast National Marine Sanctuary.

The area contains economically important fishery resources, including a variety of baitfish, shellfish, and salmon. The resources in this area are also critical to the cultural activities and subsistence living of Native American Indian tribes. Important archaeological sites of these peoples are found on the shoreline and they are likely to be affected by an oil spill from a ship. In addition, the area has been designated as an UNESCO Biosphere Reserve and World Heritage Site and overlaps with three National Wildlife refuges and one National Park. With the extensive wilderness shoreline and natural beauty, recreation and tourism are critical and vital economic forces in the region.

The coastal rocks and islands provide important breeding, nesting, and roosting areas for marine birds. Marbled murrelets, which use offshore waters for feeding, are listed by the United States as a threatened species and are of special concern due to their high vulnerability to oil spills. Common murres nest on offshore islands and their populations have been seriously affected by past oil spills, including the 1991 Tenyo Maru oil spill. Bald eagles, listed as a threatened species, are also important to the marine ecosystem in the region. Twenty-nine species of whales, dolphins, and other marine mammals regularly inhabit the area, including recovering populations of sea otters, which are the most vulnerable to oil spills. The Olympic Coast also contains some of the most productive kelp beds and intertidal areas on the U.S. West Coast.

When viewed in conjunction with the U.S. Coast Guard proposal to amend the TSS and establish recommended tracks, the expansion of the ATBA is necessary for protection of natural resources from maritime casualty and for general maritime safety. Moving the northern border of the ATBA to a consistent distance south of the southernmost edge of the TSS will provide an improved safety buffer for those smaller, slower moving vessels that choose to transit south of the TSS. Continuing this buffer area parallel to the TSS to a point at 124° 55.1′W will allow sufficient room for this slower moving traffic to transit without conflicting with the inbound traffic steering for the southern approach to the TSS. It also provides a greater margin of safety around the hazards of Duntze and Duncan Rocks, and Tatoosh Island, which is known for its strong tides.

NOAA proposes to apply the ATBA to commercial ships of 1,600 gross tons and above because these ships carry a substantial amount of bunker fuel. Concerns regarding spills of bunker fuel were heightened on the U.S. West Coast after the 1999 incident involving the New Carissa, which spilled approximately 70,000 gallons of bunker fuel. Requiring commercial ships of 1,600 gross tons and above to transit outside the ATBA would move these ships farther offshore, thus increasing the time available to respond to a propulsion or steering casualty and decreasing the potential for a drift or powered grounding. If there was a discharge of bunker fuel, the increased distance offshore would diminish the impact on the shoreline and provide more time to mobilize a response. NOAA analyzed various ship sizes to which the ATBA should be made applicable. Commercial ships of 1,600 gross tons (versus those of only 300 gross tons) are considered large enough to be able to maneuver safely while avoiding the ATBA, even in most weather conditions. NOAA has determined there will be minimal adverse impacts on shipping by expanding the applicability of the ATBA to commercial ships of 1,600 gross tons and above. It will not affect those ships bound for the Strait of Juan de Fuca from the north or west. Most ships coming from destinations well to the south of the ATBA will, if the amendment to the TSS is approved, have to alter their course to enter the TSS and thus the expanded applicability of the ATBA will have limited, if any, effect.

Ships bound to or from Grays Harbor, a tidal port that is located at the immediate southern end of the ATBA, will be minimally affected by this expanded applicability. Using 1999 data, an analysis on the impacts to ships transiting between Grays Harbor and the Strait of Juan de Fuca found that of the 107 vessels in transit, 48 are of sufficient size to be affected by the proposed change in applicability. Of those vessels, 80% transited outside the existing ATBA. With the proposed amendment of the TSS, the expanded ATBA applicability will add an approximate 10 miles in transit distance or 42 minutes in additional transit time.

The Olympic Coast National Marine Sanctuary Advisory Council and North Puget Sound Risk Management Panel have discussed the extension of the provisions of the ATBA to vessels not currently included. Both of these federal advisory bodies supported the extension of the ATBA applicability. The Olympic Coast National Marine Sanctuary has analyzed the population of vessels transiting the ATBA for the risk they pose to Sanctuary resources. The Sanctuary's analysis and further information on NOAA's proposal, including charts and reports, can be viewed at http://www.ocnms.nos.noaa.gov/use/atbea.html.

Dated: March 21, 2001.
Margaret A. Davidson,
Acting Assistant Administrator for Ocean Services and Coastal Zone Management.

[FR Doc. 01-7622 Filed 3-28-01; 8:45 am]

BILLING CODE 3510-08-M